SOCIAL SECURITY ADMINISTRATION

[Docket No. SSA-2009-0042]

Privacy Act of 1974, as Amended; Computer Matching Program (Social Security Administration/Department of Homeland Security (DHS)—Match #1010

AGENCY: Social Security Administration.

ACTION: Notice of a renewal of an existing computer matching program which will expire on January 31, 2010.

SUMMARY: In accordance with the provisions of the Privacy Act, as amended, this notice announces a renewal of an existing computer matching program we currently conduct with DHS.

DATES: We will file a report of the subject matching program with the Committee on Homeland Security and Governmental Affairs of the Senate, the Committee on Oversight and Government Reform of the House of Representatives, and the Office of Information and Regulatory Affairs, Office of Management and Budget (OMB). The matching program will be effective as indicated below.

ADDRESSES: Interested parties may comment on this notice by either telefaxing to (410) 965-0201 or writing to the Deputy Commissioner for Budget, Finance and Management, 800 Altmeyer Building, 6401 Security Boulevard, Baltimore, MD 21235-6401. All comments received will be available for public inspection at this address.

FOR FURTHER INFORMATION CONTACT: The Deputy Commissioner for Budget, Finance and Management as shown above.

SUPPLEMENTARY INFORMATION:

A. General

The Computer Matching and Privacy Protection Act (CMPPA) of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with other agency or agencies participating in the matching programs;

(2) Obtain the approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Dated: December 1, 2009.
Michael G. Gallagher,
Deputy Commissioner for Budget, Finance and Management.

NOTICE OF COMPUTER MATCHING PROGRAM, SSA WITH DHS

A. Participating Agencies:

SSA and DHS.

B. PURPOSE OF THE MATCHING PROGRAM:

The purpose of this matching program is to establish conditions, safeguards, and procedures for disclosure of information relating to aliens for matching purposes by DHS and us. DHS will disclose two separate data files through a computer matching operation for our use in making Federal benefit eligibility determinations for “Aliens Who Leave the United States Voluntarily” and “Aliens Who are Removed from the United States.”

C. AUTHORITY FOR CONDUCTING THE MATCHING PROGRAM:

Legal authority for this matching operation is the Social Security Act (Act), 42 U.S.C. 402(n), 1382(f) and 1382c(a)(1), and the Immigration and Nationality Act (INA), 8 U.S.C. 1611 and 1612. Section 1631(e)(1)(B) of the Act, requires us to verify declarations of applicants for and recipients of Supplemental Security Income (SSI) payments before making a determination of eligibility or payment amount. Section 1631(f) of the Act requires Federal agencies to provide us with information necessary to verify SSI eligibility or benefit amounts or to verify other information related to these determinations.

In addition, section 202(n)(2) of the Act, specifies that the “Attorney General or the Secretary of Homeland Security notify the Commissioner of Social Security” when certain individuals are removed under specified provisions of section 237(a) or under section 212(a)(6)(A) of the INA.

It is executed under the Privacy Act of 1974, 5 U.S.C. 552a, as amended by the CMPPA of 1988, and the regulations and guidance promulgated thereunder.

D. Categories of Records and Individuals Covered by Matching Program:

1. Aliens Who Leave the United States Voluntarily:

The DHS identifies for us, aliens who leave the United States voluntarily by their Benefits Information System (BIS), DHS/USCIS-007. Our systems of records used in this portion of the matching program are the Master Files of Social Security Number (SSN) Holders and SSN Applications, also known as the NUMIDENT, SSA/OEEAS 60-0058 and the Supplemental Security Income Record and Special Veterans Benefits (SSIR/SVB), also known as the SSR, SSA/OASSIS 60-0103.

BIS furnishes the alien's name, SSN, date of birth (DOB), alien identification number, (“A” number), date of departure, and expected length of stay. To verify the SSN, BIS data will be matched against the names, DOB, and SSNs of our Numident and Alpha Index files. Verified SSNs will be stored and matched against the same elements in SSA's SSR files.

2. Aliens Who Are Removed From the United States:

DHS identifies for us, aliens who are removed from the United States from their Removable Alien Records System (RARS) (DHS/ICE-011). Immigration and Customs Enforcement now maintains information on removed aliens in the Enforcement Integrated Database (EID). Our systems of records used in this portion of the matching program are the NUMIDENT, SSA/OEEAS 60-0058, the Master Beneficiary Record (MBR), SSA/OEEAS 60-0090, and the SSR, SSA/OASSIS 60-0103. The Unverified Prisoner System (UPS) is now used to do a manual search of fallout cases where the Enumeration and Verification System is unable to locate an SSN for an alien deportee. New alien screens and software were created for those deported from the United States and made part of the UPS process. No changes were made to the function of the system.

RARS, EID furnishes the names and aliases (if any) of those removed, SSN (if available), DOB, sex, country of birth, country to which removed, date of removal, the final removal charge code and DHS “A” number. To verify the SSN, RARS data will be matched against SSA's Numident and Alpha-Index files (SSA/OEEAS 60-0058). Verified SSNs are matched against the existing MBR and SSR records to locate those removed (and their dependents or survivors, if any) who have already claimed and are currently receiving RSDI and/or SSI benefits.

E. Inclusive Dates of the Matching Program:

The matching program will become effective no sooner than 40 days after notice of the matching program is sent to Congress and OMB, or 30 days after publication of this notice in the Federal Register, whichever date is later. The matching program will continue for 18 months from the effective date and may be extended for an additional 12 months thereafter, if certain conditions are met.

[FR Doc. E9-29870 Filed 12-17-09; 8:45 am]

BILLING CODE 4191-02-P